DEPARTMENT OF THE INTERIOR

Bureau of Indian Affairs

Office of the Special Trustee for American Indians

Working Group on the “As-Is” “To-Be” Process and Trust Improvement Efforts

AGENCY: Bureau of Indian Affairs and Office of the Special Trustee for American Indians, Interior.

ACTION: Notice.

SUMMARY: On April 22, 2003, the Bureau of Indian Affairs (BIA) and the Office of the Special Trustee for American Indians (OST) in the Department of the Interior filed a Federal Register notice (68 FR 19846) calling for nominations of Tribal officials to participate in a working group to discuss the “As-Is” “To-Be” processes and provide input and comments on potential alternatives on how the trust process should be improved and administered. Because mechanisms are now in place for soliciting input from Tribes on the “To-Be” processes, the Department will not be convening a new working group.

DATES: Effective on the date of publication of this notice in the Federal Register.

FOR FURTHER INFORMATION CONTACT: ATTN: Terry Virden, Deputy Commissioner for Indian Affairs, Bureau of Indian Affairs, Room 4160, 1849 C Street, NW., Washington, DC 20240; or ATTN: Donna Erwin, Acting Special Trustee, Office of the Special Trustee for American Indians, Room 5140, 1849 C Street, NW., Washington, DC 20240.

SUPPLEMENTARY INFORMATION: The Electronic Data Systems Corporation, in its January 2002 Trust Reform Report, recommended that the Department develop an accurate, current state model to include business processes, internal controls, and associated information technology. The Department worked extensively on documenting the “As-Is” business processes currently employed in managing Indian trust assets. Through this “As-Is” business process, the Department established a comprehensive understanding of current trust business operations, identified needs and opportunities for improvement, and was able to understand the variances among geographic regions, and their causes.

The development of the initial “To-Be” model takes into consideration those recommendations and lessons learned from the “As-Is” process. The Department is in the process of comparing these processes to the initial “To Be” model processes to determine how existing processes can be improved. Finally, the Department will integrate the final “To-Be” model processes with universal support and operational functions, and these reengineered business processes will be documented with appropriate polices, procedures, guidelines and handbooks.

The Department has identified a reengineering core team for the purpose of engaging appropriate Interior bureaus, agencies and offices, and Tribes in the reengineering effort at different levels. The Department recognizes that Tribal assistance is critical to the identification of trust business process alternatives and opportunities for improvement. The core team is divided into a technical group (Tier 1) and a review and validation group (Tier 2). Because the activities of these core teams will involve consultations with tribes and tribal organizations, the Department will not be convening a new working group.

Dated: September 10, 2003.
Aurene M. Martin,
Acting Principal Deputy Assistant Secretary—Indian Affairs.
Ross O. Swimmer,
Special Trustee.

[FR Doc. 03-25231 Filed 10-3-03; 8:45 am]

BILLING CODE 4310-3-M